OFFICE OF SCIENCE AND TECHNOLOGY POLICY

Data Portability

ACTION: Request for information.

SUMMARY: Many modern service providers give people access to their own data in machine readable format to download and use as they see fit. Proponents of increased data portability point to numerous, significant benefits for users, service providers, and the broader public. For users, perhaps the most important benefits are the ability to create backups of their most important data, like photographs, tax returns, and other financial information while reducing the danger of becoming locked-in to a single service provider, especially in a world where service providers may change business models or discontinue products.

Consumers may also benefit from increased competition. If consumers cannot switch easily between platforms, then it may be difficult for would-be services to enter the market, potentially resulting in less innovation or higher prices. Increasing data portability may induce businesses to compete with one another to offer better prices and higher quality services so as to win or retain a customer's business. Service providers, meanwhile, can benefit from offering data portability to increase user trust through the transparency and ease of switching data portability provides, and to help manage the termination of services. Finally, the public benefits when data portability increases competition, provides some sense of accountability, and promotes transparency as to what information a provider is holding.

Others may point to potential private and public downsides. With lower switching costs, businesses might adjust their business models and become more selective in their initial customer acquisition strategy or invest less in their customer relationships, which might leave some sets of customers worse off than before. Some privacy and security advocates also worry that the strength of data portability—easier sharing of information—could encourage more information sharing, including when it might be inadvisable from a privacy perspective or when a criminal successfully breaks into an unsecured service.

The Office of Science and Technology Policy (OSTP) is interested in understanding the benefits and drawbacks of increased data portability as well as potential policy avenues to achieve greater data portability. The views of the American people, including stakeholders such as consumers, academic and industry researchers, and private companies, are important to inform an understanding of these questions.

DATES: Responses must be received by November 23, 2016 to be considered.

ADDRESSES: You may submit responses by any of the following methods (online is preferred):

• Online: You may submit via the web form at: https://www.whitehouse.gov/webform/request-information-regarding-data-portability.

• Email: USCTO@ostp.eop.gov. Include [Data Portability] in the subject line of the message.

• Mail: Data Portability RFI, c/o Alexander Macgillivray, Eisenhower Executive Office Building (Office 437), 1650 Pennsylvania Ave NW., Washington, DC 20502. If submitting a response by mail, please allow sufficient time for mail processing.

Instructions: Response to this RFI is voluntary. Responses exceeding 5,000 words will not be considered. Respondents need not comment on all topics; however, they should clearly indicate the number of each topic to which they are responding (please see Supplementary Information for list of topics). Brevity is appreciated. Responses to this RFI may be posted without change online. OSTP therefore requests that no business proprietary information or personally identifiable information be submitted in response to this RFI. Please note that the U.S. Government will not pay for response preparation, or for the use of any information contained in the response.

Disclaimer: Responses to this RFI will not be returned. The Office of Science and Technology Policy is under no obligation to acknowledge receipt of the information received, or to provide feedback to respondents with respect to any information submitted under this RFI.

FOR FURTHER INFORMATION CONTACT: Alexander Macgillivray (202) 494-0085.

SUPPLEMENTARY INFORMATION: OSTP is particularly interested in responses related to the following topics: (1) The potential benefits and drawbacks of increased data portability; (2) the industries or types of data that would most benefit or be harmed by increased data portability; (3) the specific steps the Federal Government, private companies, associations, or others might take to encourage or require greater data portability (and the important benefits or drawbacks of each approach); (4) best practices in implementing data portability; and (5) any additional information related to data portability policy making, not requested above, that you believe OSTP should consider with respect to data portability.

Ted Wackler,
Deputy Chief of Staff and Assistant Director.

[FR Doc. 2016-24246 Filed 10-6-16; 8:45 am]

BILLING CODE 3270-F6-P